DEPARTMENT OF COMMERCE

National Oceanic and Atmospheric Administration

RIN 0648-XO45

Marine Mammals; File No. 14241

AGENCY: National Marine Fisheries Service (NMFS), National Oceanic and Atmospheric Administration (NOAA), Commerce.

ACTION: Notice; issuance of permit amendment.

SUMMARY: Notice is hereby given that Dr. Peter Tyack, Woods Hole Oceanographic Institution, Woods Hole, MA has been issued a major amendment to Permit No. 14241 to conduct research on marine mammals.

ADDRESSES: The permit amendment and related documents are available for review upon written request or by appointment in the following office(s):

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9300; fax (978)281-9333; and

Southeast Region, NMFS, 263 13th Avenue South, Saint Petersburg, FL 33701; phone (727)824-5312; fax (727)824-5309.

FOR FURTHER INFORMATION CONTACT: Tammy Adams or Carrie Hubard, (301)713-2289.

SUPPLEMENTARY INFORMATION: On May 28, 2010, notice was published in the Federal Register (75 FR 29991) that a request for an amendment to the permit to conduct research on cetacean behavior, sound production, and responses to sound had been submitted by the above-named applicant. The requested permit amendment has been issued under the authority of the Marine Mammal Protection Act of 1972, as amended (16 U.S.C. 1361 et seq.), and the regulations governing the taking and importing of marine mammals (50 CFR part 216).

The permit has been amended to: (1) include authorization for collection of a skin and blubber biopsy sample from animals that are already authorized to be tagged; (2) add new species for existing projects involving tagging, playbacks, and behavioral observations; and (3) modify and clarify tagging and playback protocols and mitigation for when dependent calves are present. The new species for the Mediterranean Sea-based project are Blainville's beaked whale (Mesoplodon densirostris), Cuvier's beaked whale (Ziphius cavirostris), short-finned pilot whale (Globicephala macrorhynchus), long-finned pilot whale (Globicephala melas), Risso's dolphin (Grampus griseus), and false killer whale (Pseudorca crassidens). The new species for the project based off Cape Hatteras, North Carolina are True's beaked whale (M. mirus), Gervais' beaked whale (M. europaeus), Blainville's beaked whale, bottlenose dolphin (Tursiops truncatus), Risso's dolphin, short-beaked common dolphin (Delphinus delphis), and Cuvier's beaked whale. The amendment is valid through the expiration date of the original permit, July 31, 2014.

In compliance with the National Environmental Policy Act of 1969 (42 U.S.C. 4321 et seq.), a final determination has been made that the activity proposed is categorically excluded from the requirement to prepare an environmental assessment or environmental impact statement.

Dated: August 4, 2010.
P. Michael Payne,
Chief, Permits, Conservation and Education Division, Office of Protected Resources, National Marine Fisheries Service.

[FR Doc. 2010-19556 Filed 8-6-10; 8:45 am]

BILLING CODE 3510-22-S